DEPARTMENT OF VETERANS AFFAIRS

Cooperative Studies Scientific Evaluation Committee, Notice of Meeting

The Department of Veterans Affairs (VA) gives notice under the Federal Advisory Committee Act, 5 U.S.C. Ch. 10, that Cooperative Studies Scientific Evaluation Committee (Committee) will hold its virtual meeting on January 23, 2026, via Microsoft Teams, from 1:00 p.m.-3:45 p.m. Eastern Standard Time.

The Committee provides expert advice on VA cooperative studies, multi-site clinical research activities, and policies related to conducting and managing these efforts. The first 30 minutes of the meeting (approximately) will be open to the public as the Committee discusses administrative matters and the general status of the program. The remaining portion of the meeting will be closed to the public as the Committee reviews, discusses, and evaluates research and development applications.

During the closed portion of the meeting, the Committee's discussions and recommendations will address the qualifications of the personnel conducting the studies; staff and consultant critiques of research proposals and similar documents; and the medical records of study subjects, the disclosure of which would constitute a clearly unwarranted invasion of personal privacy. Additionally, premature disclosure of research information to the public could significantly obstruct implementation of approved research activities. Therefore, portions of the Committee meeting will be closed to the public in accordance with 5 U.S.C. 552b(c)(4)(6) and (9)(B).

The Committee will not accept oral comments from the public for the open portion of the meeting. Members of the public who wish to attend the open teleconference should call 872-701-0185, conference ID 593 392 899#. Those who plan to attend, would like additional information, or would like to submit written comments should contact David Burnaska, Program Manager, Cooperative Studies Program (14RD), Department of Veterans Affairs, 810 Vermont Avenue NW, Washington, DC 20420, at David.Burnaska@va.gov.

Dated: January 5, 2026.
Jelessa M. Burney,
Federal Advisory Committee Management Officer.

[FR Doc. 2026-00086 Filed 1-6-26; 8:45 am]

BILLING CODE 8320-01-P